DEPARTMENT OF DEFENSE

Defense Acquisition Regulations System

48 CFR Part 239

Acquisition of Information Technology

CFR Correction

In Title 48 of the Code of Federal Regulations, Chapter 2, Parts 200 to 299, revised as of October 1, 2014, on page 315, in section 239.7402, paragraph (c) is reinstated to read as follows:

239.7402 Policy.

* * * * *

(c) Foreign carriers. For information on contracting with foreign carriers, see PGI 239.7402(c).

[FR Doc. 2015-23469 Filed 9-18-15; 8:45 am]

BILLING CODE 1505-01-D